DEPARTMENT OF AGRICULTURE

Forest Service

Intergovernmental Advisory Committee Meeting

AGENCY: Forest Service, USDA.

ACTION: Notice of Meeting.

SUMMARY: The Intergovernmental Advisory Committee will meet on May 4, 2000, at the Embassy Suites Portland Downtown, 319 SW Pine Street, Portland, Oregon 97204-2726. The purpose of the meeting is to continue discussions on the implementation of the Northwest Forest Plan. The meeting will begin at 9:30 a.m. and continue until 3:30 p.m. Agenda items to be discussed include, but are not limited to: briefings and discussion on Monitoring efforts, the President's Roadless Area initiative, continued discussion on integrating the forest plan into the management landscape, the Survey and Manage Draft Supplemental Environmental Impact Statement, and progress reports on ongoing implementation issues. The IAC meeting will be open to the public and is fully accessible for people with disabilities. Interpreters are available upon request in advance. Written comments may be submitted for the record at the meeting. Time will also be scheduled for oral public comments. Interested persons are encouraged to attend.

FOR FURTHER INFORMATION CONTACT: Questions regarding this meeting may be directed to Curt Loop, Acting Executive Director, Regional Ecosystem Office, 333 SW 1st Avenue, P.O. Box 3623, Portland, OR 97208 (Phone: 503-808-2180).

Dated: April 21, 2000.
Curtis A. Loop,
Acting Designated Federal Official.

[FR Doc. 00-10685 Filed 4-27-00; 8:45 am]

BILLING CODE 3410-11-M